DEPARTMENT OF ENERGY

Federal Energy Regulatory Commission

[Docket No. EG03-69-000, et al.]

Gilroy Energy Center, LLC, et al.; Electric Rate and Corporate Filings

May 28, 2003.

The following filings have been made with the Commission. The filings are listed in ascending order within each docket classification.

1. Gilroy Energy Center, LLC

[Docket No. EG03-69-000]

Take notice that on May 23, 2003, Gilroy Energy Center, LLC (Gilroy) filed with the Federal Energy Regulatory Commission (Commission) an application for determination of exempt wholesale generator status pursuant to part 365 of the Commission's regulations.

Gilroy, a Delaware limited liability company, proposes to acquire, own and operate 405 MW of electric generating facilities and sell the output of such facilities at wholesale. Gilroy further states that copies of the application were served upon the U.S. Securities and Exchange Commission and California Public Utilities Commission.

Comment Date: June 18, 2003.

2. Creed Energy Center, LLC

[Docket No. EG03-70-000]

Take notice that on May 23, 2003, Creed Energy Center, LLC (Creed) filed with the Federal Energy Regulatory Commission (Commission) an application for determination of exempt wholesale generator status pursuant to part 365 of the Commission's regulations.

Creed, a Delaware limited liability company, proposes to acquire, own and operate certain generating equipment associated with a nominally rated 45 MW natural gas-fired, simple cycle electric generating facility located in Solano County, California, and sell the output at wholesale. Creed further states that copies of the application were served upon the U.S. Securities and Exchange Commission and California Public Utilities Commission.

Comment Date: June 18, 2003.

3. Goose Haven Energy Center, LLC

[Docket No. EG03-71-000]

Take notice that on May 23, 2003, Goose Haven Energy Center, LLC (Goose Haven) filed with the Federal Energy Regulatory Commission (Commission) an application for determination of exempt wholesale generator status pursuant to part 365 of the Commission's regulations.

Goose Haven, a Delaware limited liability company, proposes to acquire, own and operate certain generating equipment associated with a nominally rated 45 MW natural gas-fired, simple cycle electric generating facility located in Solano County, California, and sell the output at wholesale. Goose Haven further states that copies of the application were served upon the U.S. Securities and Exchange Commission and California Public Utilities Commission.

Comment Date: June 18, 2003.

4. Carolina Power & Light Company

[Docket No. ER03-540-006]

Take notice that on May 23, 2003, Carolina Power & Light Company and Florida Power Corporation tendered for filing with the Federal Energy Regulatory Commission a revision of the compliance filings submitted on May 15 and 20, 2003 in Docket Nos. ER03-540-003 and 004. The revised compliance filing implements modifications to the credit security provisions of their Open Access Transmission Tariffs, to become effective May 14, 2003, in compliance with the Commission's May 9, 2003 Order Accepting in part and Rejecting in part Tariff Sheets as Modified (103 FERC § 61,159).

Carolina Power & Light Company states that this filing was served upon the parties to this proceeding, the North Carolina Utilities Commission, the South Carolina Public Service Commission and the Florida Public Service Commission.

Comment Date: June 13, 2003.

5. Midwest Independent Transmission System Operator, Inc.

[Docket No. ER03-869-000]

Take notice that on May 23, 2003, pursuant to Section 205 of the Federal Power Act and Section 35.12 of the Commission's regulations, the Midwest Independent Transmission System Operator, Inc. (Midwest ISO) submitted for filing a Letter Agreement which establishes a new Operating Protocol among Michigan Electric Transmission Company, LLC, Kinder Morgan Michigan, LLC and the Midwest ISO.

Midwest ISO states that a copy of this filing was sent to Michigan Electric Transmission Company, LLC and Kinder Morgan Michigan, LLC.

Comment Date: June 13, 2003.

6. Bangor Hydro-Electric Company

[Docket No. ER03-870-000]

Take notice that on May 23, 2003, Bangor Hydro-Electric Company (BHE) tendered for filing Notices of Cancellation of its FERC Electric Tariff Original Volume No. 5 (Open and Maintenance Agreement between Great Northern Paper, Inc., Great Lakes Power, Inc. (GLPI) and BHE (O&M Agreement)) effective May 16, 2003. BHE states that they also filed a Termination Agreement between GLPI and BHE addressing the applicability of the indemnification provisions of the O&M Agreement to acts occurring prior to May 16, 2003 as well as final payments due under the O&M Agreement.

BHE states that copies of the filing were served upon the parties to the Operation and Maintenance Agreement, the Maine Public Utilities Commission, and Maine Public Advocate.

Comment Date: June 13, 2003.

7. Bangor Hydro-Electric Company

[Docket No. ER03-871-000]

Take notice that on May 23, 2003, Bangor Hydro-Electric Company (BHE) filed a Construction Agreement between BHE and Brascan Energy Marketing, Inc. (BEMI) for the BHE/Great Northern Paper Company—Millinocket 115kV Interface Project, an Interconnection Agreement between BHE and Great Lakes Hydro American L.L.C. (GLHA), an Interconnection Agreement between BHE and Katahdin Paper Company, Inc., and an Undivided Ownership, Operation, and Maintenance Agreement between BHE and GLHA (collectively, the Agreements) BHE requests an effective date of May 16, 2003 for the Agreements.

Comment Date: June 13, 2003.

8. Southern Company Services, Inc.

[Docket No. ER03-872-000]

Take notice that on May 23, 2003, Southern Company Services, Inc. (SCS), acting on behalf of Georgia Power Company (GPC), filed with the Federal Energy Regulatory Commission the Interconnection Agreement between GPC and Southern Power Company dated as of May 23, 2003 for the Franklin CC Unit 3. SCS states that the Interconnection Agreement sets forth the terms and conditions for the interconnection of the Franklin CC Unit 3 to the GPC electric system.

Comment Date: June 13, 2003.

9. New York Independent System Operator, Inc.

]Docket No. ER03-873-000]

Take notice that on May 23, 2003, the New York Independent System Operator, Inc. (NYISO) filed proposed revisions to the NYISO's Market Administration and Control Area Services Tariff. NYISO states that the proposed revisions are intended to remove the requirement that the NYISO determine whether or not the Long Island reserves constraint specifically caused a unit to be committed. The NYISO has requested that the Commission make the filing effective on September 30, 2001.

The NYISO has served a copy of this filing to all parties that have executed Service Agreements under the NYISO's Open-Access Transmission Tariff or Services Tariff, the New York State Public Service Commission and to the electric utility regulatory agencies in New Jersey and Pennsylvania.

Comment Date: June 13, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-14232 Filed 6-5-03; 8:45 am]

BILLING CODE 6717-01-P